DEPARTMENT OF JUSTICE

Parole Commission

Sunshine Act Meeting

Pursuant to the Government in the Sunshine Act (Pub. L. 94-409) [5 U.S.C. Section 552b].

Agency Holding Meeting: Department of Justice, United States Parole Commission.

Date and Time: 3:30 p.m., Monday, July 18, 2005.

Place: U.S. Parole Commission, 5550 Friendship Boulevard, 4th Floor, Chevy Chase, Maryland 20815.

Status: Closed—Meeting.

Matters Considered: The following matter will be considered during the closed portion of the Commission's Business Meeting:

Procedure to be followed for review of one case upon request of the Attorney General as provided in 18 U.S.C. Sec. 4215(c).

Agency Contact: Thomas W. Hutchison, Chief of Staff, United States Parole Commission, (301) 492-5990.

Dated: July 11, 2005.
Rockne Chickinell,
General Counsel.

[FR Doc. 05-13936 Filed 7-12-05; 10:07 am]

BILLING CODE 4410-31-M